DEPARTMENT OF AGRICULTURE

Forest Service

Caribou-Targhee National Forest, ID, WY and UT, Caribou Oil and Gas Leasing EIS

AGENCY: Forest Service, USDA and Bureau of Land Management, USDI.

ACTION: Notice of intent to prepare an environmental impact statement.

SUMMARY: The Caribou-Targhee National Forest gives notice of the intent to prepare an environmental impact statement (EIS) to document the analysis and disclose the anticipated environmental and human effects of oil and gas leasing on the Caribou administrative unit of the Forest and the Curlew National Grassland in southeast Idaho, with minor amounts of land in northern Utah and western Wyoming. The Federal Onshore Oil and Gas Leasing Reform Act of 1987 (FOOGLRA) requires the Forest Service to evaluate National Forest System (NFS) lands for potential oil and gas leasing. As the agency responsible for lease issuance and administration, the Bureau of Land Management (BLM) will participate as a cooperating agency.

DATES: Comments concerning the scope of the analysis should be received within 45 days from the date of this notice to be most helpful. The draft environmental impact statement is expected by November, 2007 and the comment period on the draft environmental impact statement will be 45 days from the date the Environmental Protection Agency publishes the notice of availability in the Federal Register. The final environmental impact statement is expected in April, 2008.

ADDRESSES: Send written comments to Steve Robison, Oil and Gas Team Leader, Caribou-Targhee National Forest, 1405 Hollipark Drive, Idaho Falls, ID 83401. Electronic comments can be submitted in rich text format (.rtf), or Word (.doc) to comments-intermtn-caribou-targhee@fs.fed.us.

FOR FURTHER INFORMATION CONTACT: Lynn Ballard, Public Affairs Officer, Caribou-Targhee National Forest, 1405 Hollipark Drive, Idaho Falls, ID 83401; phone (208) 557-5765. For technical information contact: Steve Robison, Oil and Gas Team Leader, (208) 557-5799.

SUPPLEMENTARY INFORMATION:

Purpose and Need for Action

FOOGLRA requires the Forest Service to evaluate National Forest System (NFS) lands that are legally open to leasing for potential oil and gas leasing and development, in accordance with the National Environmental Policy Act of 1969. FOOGLRA also establishes Forest Service consent authority for leasing prior to the BLM offering NFS lands for lease. Leasing on NFS lands is done under the authority of the Mineral Leasing Act of 1920 (MLA), as amended, and implementing regulations at 36 CFR 228, subpart E, and 43 CFR 3100. The MLA provides that all public lands are open to oil and gas leasing unless they have been closed by a specific land order. The Caribou administrative unit portion of the Caribou-Targhee NF and the Curlew National Grassland (herein referred to as “the Caribou”) do not have Land and Resource Management Plan direction or decisions that determine which NFS lands are administratively available for oil/gas leasing or the conditions (stipulations) necessary to lease those specific lands. Since the FOOGLRA was signed into law, there has been little industry interest in oil and gas leasing on the Caribou, and no leases have been issued in the past 15 years. The BLM Idaho State Office has received Expressions of Interest for leasing portions of the Caribou for oil/gas.

The intent of the applicable laws and regulations (see summary) is to lease appropriate NFS lands and provide a reasonable opportunity to explore for, discover, and produce economic oil and gas reserves from available Federal lands, while meeting the requirements of environmental laws and protecting surface resources and interests not compatible with such activities.

Proposed Action

The Forest Service and BLM propose to conduct the analysis and decide which NFS lands on the Caribou will be made available for oil and gas leasing and under what terms and conditions (stipulations) these specific lands may be leased. As part of the analysis, the Forest Service will identify those areas that would be administratively available for leasing subject to the terms and conditions of the standard oil and gas lease form, and subject to constraints that would require the use of lease stipulations such as limiting surface use, timing restrictions, and/or prohibiting surface occupancy in accordance with the Caribou Land and Resource Management Plan (Caribou Plan, revised 2003) and the Curlew National Grassland Land and Resource Management Plan (Curlew Plan, 2002).

To comply with the 2001 Roadless Area Conservation Rule, no road construction or reconstruction would be allowed in Inventoried Roadless Areas (see attached Inventoried Roadless Area map for a delineation of the IRAs on the Caribou). Leasing will be considered in some Roadless areas with no surface occupancy stipulations. The analysis will also: (1) Identify alternatives to the proposed action; (2) project the type/amount of post-leasing activity that is reasonably foreseeable; and (3) analyze the reasonable foreseeable impacts of projected post-leasing activity [36 CFR 228.102(c)].

Possible Alternatives

All alternatives studied in detail must fall within the scope of the purpose and need for action and will generally tier to and comply with the Caribou and Curlew Plans. Law requires the evaluation of a “no action alternative”. Under the No Action/No Lease alternative, no NFS lands on the Caribou would be made available for oil/gas leasing at this time.

The other identified preliminary alternative would allow leasing on some NFS lands consistent with the Caribou and Curlew Plans. This alternative would be similar to the proposed action but would consider road construction or reconstruction in some of the inventoried roadless areas in the event of a future change in inventoried roadless area direction. Other alternatives which would involve making some lands unavailable for leasing and other lands available for leasing with lease stipulations for the protection of surface resources and other interests may be developed based on public input.

Lead and Cooperating Agencies

The Forest Service is the Lead Agency. The Bureau of Land Management will participate as a Cooperating Agency.

Responsible Official

Larry Timchak, Forest Supervisor, Caribou -Targhee National Forest, 1405 Hollipark Drive, Idaho Falls, ID 83401.

Idaho State Director, Bureau of Land Management, 1387 South Vinnell Way, Boise, ID 83709.

Wyoming State Director, Bureau of Land Management, P.O. Box 1828, Cheyenne, WY 82003.

Utah State Director, Bureau of Land Management, P.O. Box 45155, Salt Lake City, UT 84101.

Nature of Decision To Be Made

The Forest Supervisor, Caribou-Targhee National Forest, will decide which lands on the Caribou will be administratively available for oil and gas leasing, along with the associated conditions or constraints for the protection of non-mineral resources and interests [36 CFR 228.102(d)]. The Forest Supervisor will also authorize the BLM to offer specific lands for lease, subject to Forest Service identified stipulations that will be attached to the lease [36 CFR 228.102(e)]. The Forest Supervisor will amend, if necessary, the Caribou and Curlew Land and Resource Management Plans.

The BLM is responsible for issuing and administering oil and gas leases under the Mineral Leasing Act of 1920, as amended, and Federal regulations at 43 CFR 3101.7. The BLM State Director (Idaho, Utah, and/or Wyoming) will decide whether or not to offer for lease specific lands, in their respective states, that have been authorized by the Caribou-Targhee Forest Supervisor for leasing with the Forest Service designated stipulations.

Scoping Process

The first formal opportunity to comment on the Caribou Oil and Gas Leasing analysis project is during the scoping process [40 CFR 1501.7] which begins with the issuance of this Notice of Intent.

Mail comments to: Steve Robison, Oil and Gas Team Leader, 1405 Hollipark Dr., Idaho Falls, ID 83401.

The Forest Service requests comments on the nature and scope of the environmental, social, and economic issues, and possible alternatives related to oil and gas leasing on the Caribou administrative unit of the Caribou-Targhee National Forest and the Curlew National Grassland.

A series of public meetings are scheduled to describe the proposal and to provide an opportunity for public input. Four scoping meetings are planned as follows:

January 16: 3 p.m. to 5 p.m., Tribal Business Center, Pima Dr., Fort Hall, ID.

January 16: 6 p.m. to 8 p.m., Westside Ranger District Office, 4350 Cliffs Dr., Pocatello, ID.

January 18: 5 p.m. to 7 p.m., Soda Springs Ranger District Office, 410 E. Hooper Ave., Soda Springs, ID.

January 18: 5 p.m. to 7 p.m., Montpelier Ranger District Office, 322 N. 4th, Montpelier, ID.

Written comments will be accepted at these meetings. The Forest Service will work with the Shoshone-Bannock Tribal government to address issues that could significantly or uniquely affect them.

The project will be listed in the Caribou-Targhee NF Quarterly Schedule of Proposed Actions and a scoping letter will be sent to local tribal interests, interested agencies, organizations, media-contacts and the Forest-wide mailing list.

Preliminary Issues

Important goals for the project are to meet the legal requirements for evaluating National Forest System (NFS) lands and make the required decisions. Preliminary issues are anticipated to involve potential effects to wildlife, biological diversity (Management Indicator Species), water, soil resources, social and economic settings, cultural and paleontological resources, inventoried roadless area characteristics, visual resources, traditional cultural properties (including plant and mineral gathering areas and sacred sites), forest transportation system, noxious weeds, and air quality. Specific issues will be developed through review of public comments and internal review.

Comment Requested

This notice of intent initiates the scoping process which guides the development of the environmental impact statement. Specific comments or concerns are the most important types of information needed for this EIS. Only public comments which address relevant issues and concerns will be considered and formally addressed in an appendix to the EIS.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: December 20, 2006.
Lawrence A. Timchak,
Forest Supervisor.

[FR Doc. 06-9906 Filed 12-27-06; 8:45 am]

BILLING CODE 3410-11-P